DEPARTMENT OF JUSTICE

Antitrust Division

Notice Pursuant to the National Cooperative Research and Production Act of 1993—Financial Services Technology Consortium, Inc.

Notice is hereby given that, on September 30, 2002, pursuant to section 6(a) of the National Cooperative Research and Production Act of 1993, 15 U.S.C. 4301 et seq. (“the Act”), Financial Technology Consortium, Inc. has filed written notifications simultaneously with the Attorney General and the Federal Trade Commission disclosing changes in its membership status. The notifications were filed for the purpose of extending the Act's provisions limiting the recovery of antitrust plaintiffs to actual damages under specified circumstances. Specifically, Zions Bancorporation, Salt Lake City, UT; Verifia, Mountain View, CA; Harex InfoTech (ZOOP), San Jose, CA; eOne Global, Napa, CA; Top Layer Networks, Westboro, MA; Cape Clear Softwear, Waltham, MA; Gotham Group, New York, NY; and InterComputer Corp., Fullerton, CA have been added as parties to this venture.

Also, Fleet Bank, Dorchester, MA; Authentor Systems, Englewood, CA; Bank of Montreal, Toronto, Ontario, Canada; Telcordia, Morristown, NJ; Visa, Foster City, CA; Online Resources, McLean, VA; Business Logic Corp., Chicago, IL; BAI, Chicago, IL; and CrossCheck, Rohnert Park, CA have been dropped as parties to this venture.

No other changes have been made in either the membership or planned activity of the group research project. Membership in this group research project remains open, and Financial Technology Consortium, Inc., intends to file additional written notification disclosing all changes in membership.

On October 21, 1993, Financial Technology Consortium, Inc. filed its original notification pursuant to section 6(a) of the Act. The Department of Justice published a notice in the Federal Register pursuant to section 6(b) of the Act on December 14, 1993 (58 FR 65399).

The last notification was filed with the Department on June 28, 2002. A notice was published in the Federal Register pursuant to section 6(b) of the Act on August 6, 2002 (67 FR 50898).

Constance K. Robinson,
Director of Operations, Antitrust Division.

[FR Doc. 02-28950 Filed 11-14-02; 8:45 am]

BILLING CODE 4410-11-M